DEPARTMENT OF THE TREASURY

Submission for OMB Review; Comment Request

July 20, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 27, 2001 to be assured of consideration.

Bureau of Alcohol, Tobacco and Firearms (BATF)

OMB Number: New.

Form Number: ATF Form 8620.7.

Type of Review: New collection.

Title: Investigator Integrity Questionnaire.

Description: Persons interviewed by contract investigators will be randomly selected to voluntarily complete a questionnaire regarding the investigator's degree of professionalism.

Respondents: Individuals or households.

Estimated Number of Respondents: 2,500.

Estimated Burden Hours Per Respondent: 5 minutes.

Frequency of Response: Other (voluntary basis).

Estimated Total Reporting Burden: 250 hours.

Clearance Officer: Frank Bowers (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Mary A. Able,
Departmental Reports Management Officer.

[FR Doc. 01-18705 Filed 7-26-01; 8:45 am]

BILLING CODE 4810-31-P